DEPARTMENT OF DEFENSE

GENERAL SERVICES ADMINISTRATION

NATIONAL AERONAUTICS AND SPACE ADMINISTRATION

48 CFR Parts 2, 10, 12, 16, 44, and 52

[FAR Case 2003-027]

RIN 9000-AK07

Federal Acquisition Regulation; Additional Contract Types

AGENCIES: Department of Defense (DoD), General Services Administration (GSA), and National Aeronautics and Space Administration (NASA).

ACTION: Proposed rule; reopening of comment period.

SUMMARY: The Civilian Agency Acquisition Council and the Defense Acquisition Regulations Council (Councils) have extended the due date by two weeks for public comments on their proposed rule that would amend the Federal Acquisition Regulation (FAR) to implement section 1432 of the National Defense Authorization Act for Fiscal Year 2004. Title XIV of the Act, referred to as the Services Acquisition Reform Act of 2003 (SARA), amended section 8002(d) of the Federal Acquisition Streamlining Act of 1994 (FASA) to expressly authorize the use of time-and-materials (T&M) and labor-hour (LH) contracts for certain categories of commercial services under specified conditions. The proposed rule was published in the Federal Register at 70 FR 56318, September 26, 2005.

DATES: Interested parties should submit written comments on the proposed rule to the FAR Secretariat at the address shown in the proposed rule on or before December 9, 2005 to be considered in the formulation of a final rule.

ADDRESSES: Submit comments identified by FAR case 2003-027 by any of the following methods:

• Federal eRulemaking Portal: http://www.regulations.gov. Follow the instructions for submitting comments.

• Agency Web Site: http://www.acqnet.gov/far/ProposedRules/proposed.htm. Click on the FAR case number to submit comments.

• E-mail: farcase.2003-027@gsa.gov. Include FAR case 2003-027 in the subject line of the message.

• Fax: 202-501-4067.

• Mail: General Services Administration, Regulatory Secretariat (VIR), 1800 F Street, NW, Room 4035, ATTN: Laurieann Duarte, Washington, DC 20405.

Instructions: Please submit comments only and cite FAR case 2003-027 in all correspondence related to this case. All comments received will be posted without change to http://www.acqnet.gov/far/ProposedRules/proposed.htm, including any personal and/or business confidential information provided.

FOR FURTHER INFORMATION CONTACT: For clarification of content, contact Mr. Jeremy Olson, Procurement Analyst, at (202) 501-3221. Please cite FAR case 2003-027. Contact the FAR Secretariat at (202) 501-4755 for information pertaining to status or publication schedules.

List of Subjects in 48 CFR Parts 2, 10, 12, 16, 44, and 52

Government procurement.

Dated: November 22, 2005.
Gerald Zaffos,
Director, Contract Policy Division.

[FR Doc. 05-23394 Filed 11-28-05; 8:45 am]

BILLING CODE 6820-EP-S